DEPARTMENT OF AGRICULTURE

Animal and Plant Health Inspection Service

[Docket No. APHIS-2012-0060]

Availability of an Environmental Assessment and Finding of No Significant Impact for a Biological Control Agent for Hemlock Woolly Adelgid

AGENCY: Animal and Plant Health Inspection Service, USDA.

ACTION: Notice.

SUMMARY: We are advising the public that the Animal and Plant Health Inspection Service has prepared an environmental assessment and finding of no significant impact relative to the release of Scymnus coniferarum to control hemlock woolly adelgid. Based on its finding of no significant impact, the Animal and Plant Health Inspection Service has determined that an environmental impact statement need not be prepared.

FOR FURTHER INFORMATION CONTACT: Dr. Shirley A. Wager-Page, Chief, Pest Permitting Branch, Registration, Identification, Permitting, and Plant Safeguarding, PPQ, APHIS, 4700 River Road Unit 133, Riverdale, MD 20737-1236; (301) 851-2323.

SUPPLEMENTARY INFORMATION:

Background

The Animal and Plant Health Inspection Service (APHIS) is proposing to issue permits for the release of Scymnus coniferarum, a native predaceous beetle from the western United States, into the eastern United States for use as a biological control agent to reduce the severity of hemlock woolly adelgid (Adelges tsugae) infestations on hemlock.

Hemlock woolly adelgid was accidentally introduced to the eastern United States from Asia. Although native to the western United States, in the eastern United States, hemlock woolly adelgid is a destructive pest of the eastern hemlock (Tsuga canadensis), where it causes needle loss, abortion of buds, and the eventual death of infested trees.

On August 3, 2012, we published in the Federal Register (77 FR 46373-46374, Docket No. APHIS-2012-0060) a notice ¹ in which we announced the availability, for public review and comment, of an environmental assessment (EA) that examined the potential environmental impacts associated with the proposed release of this biological control agent into the eastern United States.

¹ To view the notice, EA, and FONSI go to http://www.regulations.gov/#!docketDetail;D=APHIS-2012-0060.

We solicited comments on the EA for 30 days ending September 4, 2012. We received 10 comments by that date. Nine of the commenters were supportive of the proposed action. The remaining commenter opposed the proposed action but did not offer a rationale or any information apart from that opposition.

In this document, we are advising the public of our finding of no significant impact (FONSI) regarding the release of S. coniferarum into the eastern United States for use as a biological control agent to reduce the severity of hemlock woolly adelgid infestations. The finding, which is based on the EA, reflects our determination that release of this biological control agent will not have a significant impact on the quality of the human environment.

The EA and FONSI may be viewed on the Regulations.gov Web site (see footnote 1). Copies of the EA and FONSI are also available for public inspection at USDA, room 1141, South Building, 14th Street and Independence Avenue SW., Washington, DC, between 8 a.m. and 4:30 p.m., Monday through Friday, except holidays. Persons wishing to inspect copies are requested to call ahead on (202) 799-7039 to facilitate entry into the reading room. In addition, copies may be obtained by calling or writing to the individual listed under FOR FURTHER INFORMATION CONTACT.

The EA and FONSI have been prepared in accordance with: (1) The National Environmental Policy Act of 1969 (NEPA), as amended (42 U.S.C. 4321 et seq.); (2) regulations of the Council on Environmental Quality for implementing the procedural provisions of NEPA (40 CFR parts 1500-1508); (3) USDA regulations implementing NEPA (7 CFR part 1b); and (4) APHIS' NEPA Implementing Procedures (7 CFR part 372).

Done in Washington, DC, this 28th day of February 2013.
Kevin Shea,
Acting Administrator, Animal and Plant Health Inspection Service.

[FR Doc. 2013-05141 Filed 3-5-13; 8:45 am]

BILLING CODE 3410-34-P